DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2012 Economic Census—Commodity Flow Survey.

OMB Control Number: 0607-0932.

Form Number(s): CFS 1000 (2012), CFS 2000 (2012), CFS-1100, CFS-1200, CFS-1000-L1, CFS-1000-F, CFS-1000-LE, CFS-1000-L1a.

Type of Request: Reinstatement, with change, of an expired collection.

Burden Hours: 800,000.

Number of Respondents: 100,000.

Average Hours per Response: 2 hours.

Needs and Uses: The 2012 Commodity Flow Survey (CFS), a component of the 2012 Economic Census, is the only comprehensive source of multi-modal, system-wide data on the volume and pattern of goods movement in the United States. The CFS is conducted through a partnership between the U.S. Census Bureau and the Research and Innovative Technology Administration (RITA), Bureau of Transportation Statistics (BTS), Department of Transportation (DOT). The survey provides a crucial set of statistics on the value, weight, mode, and distance of commodities shipped by mining, manufacturing, wholesale, and selected retail and services establishments, as well as auxiliary establishments that support these industries. The U.S. Census Bureau will publish these shipment characteristics for the nation, census regions and divisions, states, and CFS defined geographic areas. As with the 2007 Commodity Flow Survey, this survey also identifies export and hazardous material shipments.

The DOT consistently views updated information on freight flows as critical to understanding the use, performance, and condition of the nation's transportation system, as well as transportation investments and the unintended consequences of transportation. Data on the movement of freight also are important for effective analyses of changes in regional and local economic development, safety issues, and environmental concerns. They also provide the private sector with valuable data needed for critical decision-making on a variety of issues including market trends, analysis, and segmentation. Each day, governments, businesses, and consumers make countless decisions about where to go, how to get there, what to ship and which transportation modes to use. Transportation constantly responds to external forces such as shifting markets, changing demographics, safety concerns, weather conditions, energy and environmental constraints, and national defense requirements. Good decisions require having the right information in the right form at the right time.

The CFS is the primary source of information about freight movement in the United States. Estimates of shipment characteristics are published for differing levels of aggregation. The CFS produces summary statistics only, and no confidential data are released. The survey covers shipments from establishments in the mining, manufacturing, wholesale, and selected retail industries, as well as auxiliary establishments that support these industries. Federal agencies, state and local transportation planners and policy makers, and private sector transportation managers, analysts, and researchers have strongly supported the conduct of the CFS.

The 2012 CFS will be a mail-out/mail-back or electronic reporting sample survey of approximately 100,000 business establishments in the mining, manufacturing, wholesale, and selected retail and services industries, as well as auxiliary establishments that support these industries. Respondents will be asked to provide a quarterly response for a one-year period.

Affected Public: Businesses or other for-profit.

Frequency: Every 5 years.

Respondent's Obligation: Mandatory.

Legal Authority: Title 13, United States Code, Sections 131, 193, and 224.

OMB Desk Officer: Brian Harris-Kojetin, (202) 395-7314.

Copies of the above information collection proposal can be obtained by calling or writing Diana Hynek, Departmental Paperwork Clearance Officer, (202) 482-0266, Department of Commerce, Room 6616, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: August 2, 2011.
Glenna Mickelson,
Management Analyst, Office of the Chief Information Officer.

[FR Doc. 2011-19873 Filed 8-4-11; 8:45 am]

BILLING CODE 3510-07-P